DEPARTMENT OF AGRICULTURE

Forest Service

California Coast Provincial Advisory Committee (PAC); Meeting

AGENCY: Forest Service, USDA.

ACTION: Notice of meeting.

SUMMARY: The California Coast Provincial Advisory Committee (PAC) will meet on August 29 and 30, 2001, at the Pt. Reyes National Seashore in Pt. Reyes, California. The purpose of the meeting is to discuss issues relating to implementing the Northwest Forest Plan.

DATES: The meeting will be held August 29 and 30, 2001. A field tour of watershed restoration and wildlife habitat improvement projects will be held on August 30 from 8 a.m. until 12 p.m. The business meeting will be held from 8 a.m. to 5 p.m. on August 29 and from 1 to 3 p.m. on August 30, 2001.

ADDRESSES: The meeting will be held at the Pt. Reyes National Seashore Association Conference Room, Pt. Reyes National Seashore Headquarters, Bear Valley Road, Pt. Reyes, CA.

FOR FURTHER INFORMATION CONTACT: Phebe Brown, Committee Coordinator, USDA, Mendocino National Forest, 825 N. Humboldt Avenue, Willows, CA, 95988, (530) 934-3316; EMAIL pybrown@fs.fed.us.

SUPPLEMENTARY INFORMATION: Agenda items to be covered include: (1) Province watershed summaries/fish map update and next steps; (2) Report from the On the Ground Subcommittee on the issue of Province fire and fuels management; (3) Report from the Provincial Interagency Executive Committee subgroup on coordinating the National Fire Plan; (4) Regional Ecosystem Office update; (5) Coordination with State watershed planning activities; (6) Presentation on research findings concerning thinning in Late Successional Reserves; (7) Post Megram Fire projects and Survey and Manage Standards and Guidelines requirements; (8) Agency updates; (9) Recognition of Committee service to a member; and (10) Public Comment. The meeting is open to the public. Public input opportunity will be provided and individuals will have the opportunity to address the Committee at that time.

Dated: August 3, 2001.
Blaine P. Baker,
Acting Forest Supervisor.

[FR Doc. 01-20250 Filed 8-10-01; 8:45 am]

BILLING CODE 3410-11-M